DEPARTMENT OF THE INTERIOR

Bureau of Land Management

[NM-910-08-0777-XX]

Notice of Public Meeting, New Mexico Resource Advisory Council Meeting

AGENCY: Bureau of Land Management, Department of the Interior.

ACTION: Notice of Public Meeting.

SUMMARY: In accordance with the Federal Land Policy and Management Act and the Federal Advisory Committee Act of 1972, the U.S. Department of the Interior, Bureau of Land Management, New Mexico Resource Advisory Council (RAC), will meet as indicated below.

DATES: The meeting dates are August 20-21, 2008, at the Marriott Courtyard, 5151 Journal Center Boulevard, Albuquerque, New Mexico. The public comment period is scheduled for Wednesday, August 20, 2008, from 6-7 p.m. at the Marriott Courtyard. On Thursday, August 21, 2008, the meeting is scheduled from 8 a.m. to 5 p.m. The public may present written comments to the RAC. Depending on the number of individuals wishing to comment and time available, oral comments may be limited.

SUPPLEMENTARY INFORMATION: The 15-member RAC advises the Secretary of the Interior, through the Bureau of Land Management, on a variety of planning and management issues associated with public land management in New Mexico. All meetings are open to the public. At this meeting, topics include issues on renewable and nonrenewable resources.

FOR FURTHER INFORMATION CONTACT: Theresa Herrera, New Mexico State Office, Office of External Affairs, Bureau of Land Management, P.O. Box 27115, Santa Fe, New Mexico 87502-0115, 505-438-7517.

Dated: July 18, 2008.
Linda S.C. Rundell,
State Director.

[FR Doc. E8-16941 Filed 7-23-08; 8:45 am]

BILLING CODE 4310-FB-P